DEPARTMENT OF TRANSPORTATION

Federal Aviation Administration

[Docket No. FAA-2013-0684]

Agency Information Collection Activities: Requests for Comments; Clearance of a New Approval of Information Collection: Helicopter Air Ambulance Operator Reports

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on August 12, 2013, vol. 78, no. 155, pages 48925-48926. The FAA Modernization and Reform Act of 2012 included a mandate to begin collection of operational data from Air Ambulance operators. The Act mandates that not later than 2 years after the date of enactment, and annually thereafter, the Administrator shall submit to the Committee on Transportation and Infrastructure of the House of Representatives and the Committee on Commerce, Science, and Transportation of the Senate, a report containing a summary of the data collected. The FAA received a total of 17 responses to the request for public comment. Based on the comments, the FAA has made adjustments in the reporting requirements, frequency of reporting and the format for submission. Specifically, the linkage among the registration number, time of day, flight time, IFR flight time, and base has been removed. Reporting requirements have changed from a “per flight” basis to an aggregate basis. Additionally, the reporting requirement has been reduced from a quarterly report to an annual report.

DATES: Written comments should be submitted by August 28, 2014.

FOR FURTHER INFORMATION CONTACT: Kathy DePaepe at (405) 954-9362, or by email at: Kathy.DePaepe@faa.gov.

SUPPLEMENTARY INFORMATION:

OMB Control Number: 2120-XXXX

Title: Helicopter Air Ambulance Operator Reports

Form Numbers: There are no FAA forms associated with this collection.

Type of Review: Clearance of a new information collection.

Background: The FAA Modernization and Reform Act of 2012 mandates that all helicopter air ambulance operators must begin reporting the number of flights and hours flown, along with other specified information, during which helicopters operated by the certificate holder were providing helicopter air ambulance services. See 49 U.S.C. 44731. The helicopter air ambulance operational data provided to the FAA will be used by the agency as background information useful in the development of risk mitigation strategies to reduce the currently unacceptably high helicopter air ambulance accident rate, and to meet the mandates set by Congress. Upon approval of this information collection the FAA intends to amend helicopter air ambulance operators' Operations Specifications to require submission of the data, mandated by Congress, to the FAA.

The FAA notes that prior to issuance of this notice representatives from the Flight Standards Service, Office of Accident Investigation and Prevention, and the Office of the Chief Counsel met with representatives from the Air Medical Operators Association (AMOA) to discuss the FAA's approach to this data collection. Meetings were held on October 15, 2012 and May 17, 2013. On June 28, 2013 AMOA submitted a response to the FAA discussing its view of the method to collect the data being pursued by the FAA. A copy of that letter has been placed in the docket and will be considered by the agency.

Respondents: 73 helicopter air ambulance certificate holders.

Frequency: Information is collected annually.

Estimated Average Burden per Response: 6 hours.

Estimated Total Annual Burden: 588 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

The supplementary materials placed in the docket may be read at http://www.regulations.gov at any time. Follow the online instructions for accessing the docket or go to Docket Operations in Room W12-140 of the West Building Ground Floor at 1200 New Jersey Avenue SE., Washington, DC between 9 a.m. and 5 p.m., Monday through Friday, except Federal holidays.

Issued in Washington, DC, on July 23, 2014.
Albert R. Spence,
FAA Assistant Information Collection Clearance Officer, IT Enterprises Business Services Division, ASP-110.

[FR Doc. 2014-17821 Filed 7-28-14; 8:45 am]

BILLING CODE 4910-13-P